DEPARTMENT OF AGRICULTURE

Forest Service

36 CFR Part 216

Request for Information (RFI) Regarding Involving the Public in the Formulation of Forest Service Directives

AGENCY: Forest Service, USDA.

ACTION: Request for Information.

SUMMARY: The Department of Agriculture (USDA), Forest Service, Business Operations, Office of Regulatory and Management Services (ORMS) is preparing to revise a portion of the Code of Federal Regulations (CFR) governing public participation requirements and procedures related to the issuance or revision of internal Agency directives. The Forest Service is committed to ensuring that a broad and representative cross-section of the interested public is provided advance notice and a full and fair opportunity to comment upon the formulation of standards, criteria, and guidelines applicable to Forest Service programs. In keeping with this commitment, the Agency is interested in enhancing its public engagement and expanding its approach for public notice and comment beyond just formal rulemaking. The Agency has identified a need to update the relevant regulations to reflect the varied media consumption patterns of key Forest Service stakeholders and the public at large. These potential regulatory revisions are also necessary to ensure that written policies align with the Agency's current practices, which have changed to ensure compliance with recent court orders.

The Agency is hosting a webinar for all interested members of the general public to inform the public of these changes to the Forest Service's public participation procedures. This session will include additional information on the need for these changes and the outcomes the Agency is seeking to achieve. It will also include an outline of a potential path forward and provide attendees an opportunity to ask questions, provide input, and suggest ideas.

DATES: A webinar will be held for interested members of the general public on Tuesday, December 15, 2015, from 1:00-2:30 p.m. Eastern Standard Time/10:00-11:30 a.m. Pacific Standard Time.

ADDRESSES: The webinar will be held via Adobe Connect web conferencing software. To access the presentation, enter the following URL into any Flash-enabled web browser: https://usfs.adobeconnect.com/orms/. Audio-only access is available toll-free by calling (888) 844-9904 and entering the following access code: 4909819.

FOR FURTHER INFORMATION CONTACT: Earnest Rawles, Acting Assistant Director, Office of Regulatory and Management Services—Directives and Regulations Branch (202) 205-2601, WO_Directives@fs.fed.us. Individuals who use telecommunication devices for the deaf (TDD) may call the Federal Information Relay Service (FIRS) at (800) 877-8339 between 8:00 a.m. and 8:00 p.m., Eastern Standard Time, Monday through Friday.

SUPPLEMENTARY INFORMATION: The purpose of this RFI is to inform the public, gather feedback on potential future strategies for notifying the public, and obtaining comments prior to making any amendments to the Forest Service Directive System. Information obtained in response to this RFI may be used by the Forest Service for program planning and development, or for other purposes. Note that information shared by the Forest Service in conjunction with this RFI may or may not be used to inform or issue further policy.

Background: The Forest Service is bound by the Forest and Rangeland Renewable Resources Planning Act of 1974, as modified by the National Forest Management Act of 1976, “to give the Federal, State, and local governments and the public adequate notice and an opportunity to comment upon the formulation of standards, criteria, and guidelines applicable to Forest Service programs” (16 U.S.C. 1612(a)). Many of these standards, criteria, and guidelines are contained in the Forest Service Directive System, which is used to implement existing laws and regulations. The Forest Service Directive System contains the Agency's policies, practices, and procedures and serves as the primary basis for the internal management and control of programs and administrative direction to Agency employees. The Forest Service Manual contains legal authorities, objectives, policies, responsibilities, and guidance needed on a continuing basis by Agency line officers and primary staff to plan and execute programs and activities. The Forest Service Handbook is the principal source of specialized guidance and instruction for carrying out the policies, objectives, and responsibilities contained in the Forest Service Manual. The directives for all Agency programs are available on the Agency Web site (www.fs.fed.us).

Currently, the Forest Service uses the process set forth in the Administrative Procedure Act (APA) (5 U.S.C. 553) to notify the public of, and obtain comments on, changes to the Forest Service Directive System. This entails publication of notice in the Federal Register and solicitation of comments through Regulations.gov. This process was established and is primarily used to facilitate public participation in the promulgation of rules in the CFR. The Forest Service will continue to exclusively use the APA process to involve the public in rulemaking. The Agency is seeking to expand options for involving interested parties in the formulation of directives to be more responsive and accessible to the public.

Dated: November 23, 2015.
Lenise Lago,
Deputy Chief of Business Operations, U. S. Forest Service.

[FR Doc. 2015-30347 Filed 11-27-15; 8:45 am]

BILLING CODE 3411-15-P